COMMISSION ON CIVIL RIGHTS

Sunshine Act Notice

AGENCY: United States Commission on Civil Rights.

ACTION: Notice of meeting.

Date and Time: Friday, August 13, 2010; 9:30 a.m. EDT.

Place: 624 9th St., NW., Room 540, Washington, DC 20425.

Meeting Agenda

This meeting is open to the public.

I. Approval of Agenda.

II. Program Planning.

• NBPP Enforcement Project—Some of the discussion of this agenda item may be held in closed session.

• Consideration of Discovery Plan and Project Outline for Report on Sex Discrimination in Liberal Arts College Admissions—Some of the discussion of this agenda item may be held in closed session.

• Consideration of FY 2011 Enforcement Report Topic.

• Consideration of Timelines for Completion of the Health Care Disparities Briefing Report.

• Update on the National Conference.

III. State Advisory Committee Issues.

• Consideration of Additional Nominee to the New Jersey SAC.

IV. Approval of Minutes of July 30 Meeting.

V. Announcements.

VI. Staff Director's Report.

VII. Adjourn.

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: August 3, 2010.
David Blackwood,
General Counsel.

[FR Doc. 2010-19442 Filed 8-3-10; 4:15 pm]

BILLING CODE 6335-01-P